COMMODITY FUTURES TRADING COMMISSION

Managed Funds Issues; Meeting

AGENCY: Commodity Futures Trading Commission.

ACTION: Notice of Public Meeting.

SUMMARY: Notice is hereby given that the Commodity Futures Trading Commission (“Commission”) will hold a public roundtable meeting at which invited participants will discuss managed funds issues. Participants will be announced at a later date.

DATES: Thursday, September 19, 2002, from 10 a.m. to 12:30 p.m.

place: 1155 21st Street, NW., Washington, DC. Lobby Level Hearing Room located at Room 1000. Status: Open.

FOR FURTHER INFORMATION CONTACT: Jean A. Webb, 202-418-5100.

Issued in Washington, DC, this 7th day of August, 2002.
By the Commodity Futures Trading Commission.
Catherine D. Dixon,
Assistant Secretary of the Commission.

[FR Doc. 02-20472 Filed 8-12-02; 8:45 am]

BILLING CODE 6351-01-M